OFFICE OF MANAGEMENT AND BUDGET

Issuance of Revised OMB Circular No. A-94, “Guidelines and Discount Rates for Benefit-Cost Analysis of Federal Programs”

AGENCY: Office of Management and Budget.

ACTION: Notice of availability.

SUMMARY: The Office of Management and Budget (OMB) is announcing the issuance of the revised Circular A-94, “Guidelines and Discount Rates for Benefit-Cost Analysis of Federal Programs.”

ADDRESSES: Circular A-94, “Regulatory Analysis,” is available at https://www.whitehouse.gov/wp-content/uploads/2023/11/CircularA-94.pdf.

FOR FURTHER INFORMATION CONTACT: Jamie Taber, Office of Economic Policy, Office of Management and Budget, (202) 395-2515, a94@omb.eop.gov.

SUPPLEMENTARY INFORMATION: OMB announces the issuance of the revised Circular A-94, Regulatory Analysis. OMB Circular No. A-94 provides guidance on benefit-cost analysis and cost-effectiveness analysis of Federal spending. The new Circular is available at https://www.whitehouse.gov/wp-content/uploads/2023/11/CircularA-94.pdf.

This Circular replaces and rescinds Office of Management and Budget (OMB) Circular No. A-94, “Guidelines and Discount Rates for Benefit Cost Analysis of Federal Programs,” dated October 29, 1992.

A draft of this Circular was subject to public comment and interagency review.

Wesley Yin,
Associate Director for Economic Policy, Office of Management and Budget.

[FR Doc. 2023-24817 Filed 11-9-23; 8:45 am]

BILLING CODE 3110-01-P